OCCUPATIONAL SAFETY AND HEALTH REVIEW COMMISSION

29 CFR Part 2200

Rules of Procedure

AGENCY: Occupational Safety and Health Review Commission.

ACTION: Final rule; elimination of expiration date.

SUMMARY: On February 19, 1999 the Occupational Safety and Health Review Commission issued a final rule amending its rules of procedure to add a new Subpart H to part 2200 consisting of § 2200.120 64 FR 8243. In that section the Commission established a mandatory settlement process known as the Settlement Part as a pilot program for a one-year trial period.

In order to more effectively evaluate the Settlement Part the Commission, on February 15, 2000, extended the pilot program through September 30, 2000. 65 FR 7434. While the evaluation was based on limited data, it showed generally positive results, including substantial satisfaction among the program's users. Accordingly, the Commission has determined to eliminate the expiration date and make the Settlement Part a permanent part of its Rules of Procedure. The Chairman will continue to monitor the program and to assess its effectiveness.

EFFECTIVE DATE: As of September 29, 2000 the expiration date for Subpart H consisting of § 2200.120 is removed and the subpart becomes a permanent part of 29 CFR part 2200.

FOR FURTHER INFORMATION CONTACT: Earl R. Ohman, Jr., General Counsel, One Lafayette Centre, 1120 20th St., NW., 9th Floor, Washington, DC 20036-3419, phone (202) 606-5410.

Dated: September 26, 2000.
Thomasina V. Rogers,
Chairman.
Gary L. Visscher,
Commissioner.
Stuart E. Weisberg,
Commissioner.

[FR Doc. 00-25138 Filed 9-28-00; 8:45 am]

BILLING CODE 7600-01-M